FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revised information collections. In accordance with the Paperwork Reduction Act of 1995 (44 U.S.C. 3506(c)(2)(A)), this notice seeks comments concerning the Emergency Management Exercise Reporting System (EMERS) which collects data on the results of a State or local exercise or actual disaster response.

SUPPLEMENTARY INFORMATION: EMERS was designed in 1992 as a means of capturing information on the positive and negative results based on the conduct of an emergency management exercise or an actual disaster response. The revised EMERS 2.0 is an automated data collection software program that is Windows-based and will allow State and local emergency managers to download the program from a FEMA web site. It is based on 13 functional areas: Alert/Notification (Emergency Response); Warning (Public); Communication; Coordination/Control; Emergency Public Information; Damage Assessment; Health & Medical; Individual/Family Assistance; Public Safety; Public Works/Engineering; Transportation; Resource Management; and Continuity of Government.

The Robert T. Stafford Disaster Relief and Emergency Assistance Act, (Public Law 93-288, as amended) title III, section 313, states:

The President shall conduct annual reviews of activities of Federal agencies and State and local governments in major disaster and emergency preparedness and in providing major disaster and emergency assistance in order to assure maximum coordination and effectiveness of such program and consistency in policies for reimbursement of States under this Act.

Title VI, section 613 (a)(5) concerning financial contributions to States for necessary and essential State and local emergency preparedness personnel and administrative expenses provides that the State “shall make such report in such form and content as the Director may require.”

Collection of Information

Title: Emergency Management Exercise Reporting System (EMERS).

Type of Information Collection: Reinstatement, with change of a previously approved collection for which approval has expired.

OMB Number: 3067-0248.

Form Numbers: 95-44.

Abstract: EMERS is an automated data collection software program that captures the positive and negative results of emergency management exercises and actual disaster occurrences. This data is used to analyze the capabilities of State and local governments to respond to disasters. FEMA will use this data to determine areas of strengths and weaknesses and actions that can be taken at the national level to improve programs that deliver funding to State and local governments. State and local governments use EMERS data to track exercise activity on an annual basis and to use the lessons learned for the development of corrective action plans, strategic planning and budgeting.

Affected Public: State, Local and/or Tribal Government.

Estimated Total Annual Burden Hours: 4,668.

Estimated Cost: Cost to the Federal Government is $122,449. The cost to State and local governments is $89,700.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Program Services Division, Operations Support Directorate, Federal Emergency Management Agency, 500 C Street, SW., Room 316, Washington, DC 20472.

FOR FURTHER INFORMATION CONTACT: Bruce Hildebrand, Preparedness, Training & Exercises Directorate, Readiness Division, Program Development Branch, 500 C Street, SW., Washington, DC, or call (202) 646-3114 or email bruce.hildebrand@fema.gov for additional information. Contact Ms. Anderson at (202) 646-2625 or by facsimile number (202) 646-3524 or by email muriel.Anderson@fema.gov for copies of the proposed collection of information.

Dated: March 12, 2001.
Reginald Trujillo,
Director, Program Services Division, Operations Support Directorate.

[FR Doc. 01-6673 Filed 3-16-01; 8:45 am]

BILLING CODE 6718-01-P